DEPARTMENT OF ENERGY

Federal Energy Regulatory Commission

Combined Notice of Filings #1

Take notice that the Commission received the following electric rate filings:

Docket Numbers: ER10-2609-007; ER10-2604-005; ER10-2603-005; ER10-2602-008; ER10-2606-007.

Applicants: Escanaba Paper Company, Luke Paper Company, Rumford Paper Company, NewPage Energy Services, LLC, Consolidated Water Power Company.

Description: Notice of Non-Material Change in Status of the NewPage MBR Companies.

Filed Date: 2/14/14.

Accession Number: 20140214-5232.

Comments Due: 5 p.m. ET 3/7/14.

Docket Numbers: ER10-2763-009; ER10-2759-003; ER10-2732-009; ER10-2736-009; ER10-2737-009; ER10-2741-009; ER10-2749-009; ER10-2752-009; ER12-2492-005; ER12-2493-005; ER12-2494-005; ER12-2495-005; ER12-2496-005; ER10-2733-009; ER10-2734-009; ER10-2631-003; ER13-815-001.

Applicants: Bangor Hydro Electric Company, Bridgeport Energy LLC, Emera Energy Services Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy U.S. Subsidiary No. 1, Inc., Emera Energy U.S. Subsidiary No. 2, Inc., Rumford Power Inc., Tiverton Power LLC.

Description: Errata to December 30, 2013 Triennial Market Power Update for Northeast Region and Notice of Two Changes in Status of the Emera Entities.

Filed Date: 2/14/14.

Accession Number: 20140214-5233.

Comments Due: 5 p.m. ET 3/7/14.

Docket Numbers: ER14-225-002.

Applicants: New Brunswick Energy Marketing Corporation.

Description: Triennial Review Compliance Filing of New Brunswick Energy Marketing Corporation.

Filed Date: 2/14/14.

Accession Number: 20140214-5226.

Comments Due: 5 p.m. ET 4/15/14.

Docket Numbers: ER14-612-004.

Applicants: Skylar Energy LP.

Description: Notice of Non-Material Change in Status of Skylar Energy LP.

Filed Date: 2/14/14.

Accession Number: 20140214-5229.

Comments Due: 5 p.m. ET 3/7/14.

Docket Numbers: ER14-1014-000; ER14-1033-000; ER14-1034-000; ER14-1035-000; ER14-1036-000; ER14-1043-000; ER14-1044-000; ER14-1046-000; ER14-1047-000.

Applicants: Bridgeport Energy LLC.

Description: Supplement to January 17, 2014 Bridgeport Energy LLC, et. al. tariff filing.

Filed Date: 2/12/14.

Accession Number: 20140212-5156.

Comments Due: 5 p.m. ET 2/26/14.

Docket Numbers: ER14-1316-000.

Applicants: FirstEnergy Service Company, FirstEnergy Solutions Corp.

Description: FirstEnergy Service Company on behalf of FirstEnergy Solutions Corp. submits Notice of Cancellation of Annual Revenue Requirement for Reactive Supply Service for the Seneca Pumped Storage Station.

Filed Date: 2/12/14.

Accession Number: 20140212-5085.

Comments Due: 5 p.m. ET 3/5/14.

Docket Numbers: ER14-1326-000.

Applicants: Entergy Louisiana, LLC.

Description: ELL-EGSL-Cleco Implementation Agmt 2-14-2014 to be effective 2/15/2014.

Filed Date: 2/14/14.

Accession Number: 20140214-5149.

Comments Due: 5 p.m. ET 3/7/14.

Docket Numbers: ER14-1327-000.

Applicants: PJM Interconnection, L.L.C.

Description: Original SA No. 3770 and Cancellation of SA No. 3283; Queue No. X1-037 to be effective 1/13/2014.

Filed Date: 2/14/14.

Accession Number: 20140214-5159.

Comments Due: 5 p.m. ET 3/7/14.

Docket Numbers: ER14-1328-000.

Applicants: Entergy Louisiana, LLC.

Description: ELL Cancellation of SA 2-14-2014 to be effective 2/14/2019.

Filed Date: 2/14/14.

Accession Number: 20140214-5175.

Comments Due: 5 p.m. ET 3/7/14.

Docket Numbers: ER14-1329-000.

Applicants: Entergy Gulf States Louisiana, L.L.C.

Description: EGSL Cancellation of SA 2-14-2014 to be effective 2/14/2019.

Filed Date: 2/14/14.

Accession Number: 20140214-5176.

Comments Due: 5 p.m. ET 3/7/14.

Take notice that the Commission received the following electric securities filings:

Docket Numbers: ES14-24-000.

Applicants: Southwestern Electric Power Company.

Description: Amendment to January 27, 2013 Application of Southwestern Electric Power Company under Section 204 of the Federal Power Act for Authorization to Issue Securities.

Filed Date: 2/12/14.

Accession Number: 20140212-5157.

Comments Due: 5 p.m. ET 2/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2014.
Nathaniel J. Davis, Sr.,
Deputy Secretary.

[FR Doc. 2014-04049 Filed 2-25-14; 8:45 am]

BILLING CODE 6717-01-P